DEPARTMENT OF ENERGY

Federal Energy Regulatory Commission

[Docket No. ER01-1936-000, et al.]

PJM Interconnection, L.L.C., et al; Electric Rate and Corporate Regulation Filings

May 7, 2001.

Take notice that the following filings have been made with the Commission:

1. PJM Interconnection, L.L.C.

[Docket No. ER01-1936-000]

Take notice that on May 1, 2001, PJM Interconnection, L.L.C. (PJM) tendered for filing proposed amendments to the PJM Open Access Transmission Tariff and the Amended and Restated Operating Agreement of PJM Interconnection, L.L.C. to amend its station power service rules.

Copies of this filing have been served on all PJM Members and the state electric regulatory commissions in the PJM control area.

Comment date: May 22, 2001, in accordance with Standard Paragraph E at the end of this notice.

2. Entergy Services, Inc.

[Docket No. ER01-1937-000]

Take notice that on May 1, 2001, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Calpine Energy Services, L.P.

Comment date: May 22, 2001, in accordance with Standard Paragraph E at the end of this notice.

3. Southern Indiana Gas & Electric Company

[Docket No. ER01-1938-000]

Take notice that on May 1, 2001, Southern Indiana Gas & Electric Company (SIGECO), tendered for filing revisions to its Open Access Transmission Tariff (OATT) to: (1) Revise the rates for ancillary services in OATT Schedules 1, 2, 3, 5 and 6 to better reflect the current costs of providing these services; (2) restate and amend OATT Schedule 4 to make Schedule 4 more consistent with recent Commission decisions regarding Energy Imbalance Service; (3) restate and amend OATT Schedules 7 and 8 to better reflect the current costs of providing these services; (4) establish Schedule 9 for Power Factor Correction Service; (5) revise the annual transmission revenue requirement contained in Attachment H; (6) establish a new OATT Attachment J that provides procedures for interconnecting new generating facilities to SIGECO's system or increasing an existing generators output; and (7) revise the OATT as necessary to make the OATT consistent with the changes made to the Schedules and Attachments.

Copies of the filing were served upon the public utility's jurisdictional customers who took service under the OATT and the Indiana Utility Regulatory Commission.

Comment date: May 22, 2001, in accordance with Standard Paragraph E at the end of this notice.

4. Citizens Communications Company

[Docket No. ER01-1939-000]

Take notice that on May 2, 2001, Citizens Communications Company (Citizens) tendered for filing two service agreements: (i) A Service Agreement with Sheldon Springs Hydro for Non-Firm Point-to-Point Transmission Service, designated as Service Agreement No. 9 under Citizens' Vermont Electric Division's Open Access Transmission Tariff, Electric Tariff Original Vol. 2; and (ii) a Service Agreement with Village of Swanton Village Electric Department for Non-Firm Point-to-Point Transmission Service, designated as Service Agreement No. 10 under Citizens' Vermont Electric Division's Open Access Transmission Tariff, Electric Tariff Original Vol. 2. Citizens also filed First Revised Sheet No. 182 (Attachment E, Index of Point to Point Transmission Service Customers) to Citizens' Vermont Electric Division's Open Access Transmission Tariff, Electric Tariff Original Vol. 2, replacing Original Sheet No. 182.

The filing relates to transmission service that Citizens' Vermont Electric Division (VED) provided to Sheldon Springs Hydro and Village of Swanton Village Electric Department during an emergency VELCO transmission outage on April 21 and 22, 2001. Citizens requests waiver of the Commission's prior notice requirements, and an effective date of April 20, 2001 for the service agreements and revised tariff sheet.

Copies of this filing were served on the wholesale customers, state commission, and other entities listed on the certificate of service attached to the filing. In addition, a copy of the rate schedule is available for inspection at the offices of Citizens' Vermont Electric Division during regular business hours.

Comment date: May 23, 2001, in accordance with Standard Paragraph E at the end of this notice.

5. Arizona Independent Scheduling Administrator Association

[Docket No. ER01-1940-000]

Take notice that on May 2, 2001, the Arizona Independent Scheduling Administrator Association (Az ISA) tendered for filing with the Federal Energy Regulatory Commission (Commission), pursuant to Section 205 of the Federal Power Act, four service agreements: two with Arizona Public Service Company and two with Tucson Electric Power Company. Also included in the filing are revised tariff sheets to reflect modifications to the definitions of Market Price and System Incremental Cost (SIC) in the Az ISA Protocols Manual. Az ISA requests that all of the foregoing be permitted to take effect May 3, 2001.

Comment date: May 23, 2001, in accordance with Standard Paragraph E at the end of this notice.

6. Entergy Services, Inc.

[Docket No. ER01-1941-000]

Take notice that on May 2, 2001, Entergy Services, Inc., on behalf of Entergy Arkansas, Inc., tendered for filing an Interconnection and Operating Agreement with Duke Energy Hot Spring, LLC (Duke Hot Spring), and a Generator Imbalance Agreement with Duke Hot Spring.

Comment date: May 23, 2001, in accordance with Standard Paragraph E at the end of this notice.

7. New York Independent System Operator, Inc.

[Docket No.ER01-1942-000]

Take notice that on May 2, 2001, the New York Independent System Operator, Inc. (NYISO) tendered for filing revisions to Attachment F of its Open Access Transmission Tariff in order to specify its treatment of requests for confidential information from a court or regulatory body with appropriate jurisdiction. The NYISO has requested an effective date of May 2, 2001 for the filing.

The NYISO has served a copy of this filing upon all parties that have executed service agreements under the NYISO's OATT and Services Tariff.

Comment date: May 23, 2001, in accordance with Standard Paragraph E at the end of this notice.

8. American Transmission Company LLC

[Docket No. ER01-1943-000]

Take notice that on May 2, 2001 (ATCLLC) tendered for filing a Firm and Non-Firm Point-to-Point Service Agreement between ATCLLC and Minnesota Municipal Power Agency. ATCLLC requests an effective date of April 5, 2001.

Comment date: May 23, 2001, in accordance with Standard Paragraph E at the end of this notice.

9. Western Systems Power Pool

[Docket No. ER01-1944-000]

Take notice that on May 2, 2001, the Western Systems Power Pool, Inc. (WSPP) tendered for filing changes to the WSPP Agreement intended to modify certain commercial terms pertaining to the sale of power. WSPP seeks an effective date of July 1, 2001, for these changes.

Copies of this filing have been served on all WSPP members and on all state commissions within the United States. This filing also has been posted on the WSPP homepage (www.wspp.org).

Comment date: May 23, 2001, in accordance with Standard Paragraph E at the end of this notice.

10. Ameren Energy Marketing Company

[Docket No. ER01-1945-000]

Take notice that on May 2, 2001, Ameren Energy Marketing Company (AEM) tendered for filing amendments to an existing rate schedule to allow sales of certain ancillary services at flexible/market-based rates and requested certain blanket approvals and waivers of certain regulations promulgated under the FPA. AEM seeks an effective date of May 3, 2001, for the amendments and related market-based rate authorization.

Copies of this filing were served on the affected state utility commissions.

Comment date: May 23, 2001, in accordance with Standard Paragraph E at the end of this notice.

11. New England Power Pool

[Docket No. ER01-1946-000]

Take notice that on May 2, 2001, the New England Power Pool (NEPOOL) Participants Committee tendered for filing in the above-captioned docket, a correction to Sections A.1 and A.1.b of Supplement 1 to NEPOOL Tariff Ancillary Service Schedule 16 (System Restoration and Planning Service from Generators). The correction deletes an incorrect reference to a non-existent FERC account in a portion of the formula for determining the Schedule 16 revenue requirement, and inserts a reference to the correct FERC accounts to be used in the formula. NEPOOL requests that this filing be made effective retroactive to September 1, 1998, the same date that Schedule 16 was ordered into effect.

The NEPOOL Participants Committee states that copies of these materials were sent to the NEPOOL Participants and the six New England state governors and regulatory commissions.

Comment date: May 23, 2001, in accordance with Standard Paragraph E at the end of this notice.

12. Southwest Power, Inc.

[Docket No. ER01-1947-000]

Take notice that on May 2, 2001, Southwest Power Pool, Inc. (SPP) tendered for filing two executed service agreements for Firm Point-to-Point Transmission Service with Exelon (PECO Energy) (Transmission Customer), as Service Agreement Nos. 544 and 545, respectively. SPP requests an effective date of June 1, 2001, for Service Agreement No. 544, and January 1, 2002, for Service Agreement No. 545.

A copy of this filing was served on the Transmission Customer.

Comment date: May 23, 2001, in accordance with Standard Paragraph E at the end of this notice.

13. Entergy Services, Inc.

[Docket No. ER01-1948-000]

Take notice that on May 2, 2001, Entergy Services, Inc. (Entergy Services), as agent for System Energy Resources, Inc. (SERI), tendered for filing the annual informational update (Update) containing the 2001 redetermination of the Monthly Capacity Charges, prepared in accordance with the provisions of SERI's Power Charge Formula (PCF) Tariff. Entergy Services states that the Update redetermines the formula rate in accordance with the annual rate redetermination provisions of section 2(B) of the PFC.

Comment date: May 23, 2001, in accordance with Standard Paragraph E at the end of this notice.

14. Power Provider LLC

[Docket No. ER01-1949-000]

Take notice that on May 2, 2001, Power Provider LLC tendered for filing, pursuant to Section 205 of the Federal Power Act, and Part 35 of the Commission's regulations, an application for authorization to make sales of capacity and/or electric energy at market-based rates.

Comment date: May 23, 2001, in accordance with Standard Paragraph E at the end of this notice.

15. American Electric Power Service Corporation

[Docket No. ER01-1970-000]

Take notice that on April 30, 2001, the American Electric Power Service Corporation (AEPSC), tendered for filing executed Firm and Non-Firm Point-to-Point Transmission Service Agreements for EnergyUSA-TPC. These agreements are pursuant to the AEP Companies' Open Access Transmission Service Tariff (OATT) that has been designated as the Operating Companies of the American Electric Power System FERC Electric Tariff Second Revised Volume No. 6.

AEPSC requests waiver of notice to permit the Service Agreements to be made effective for service billed on and after April 1, 2001.

A copy of the filing was served upon the Parties and the state utility regulatory commissions of Arkansas, Indiana, Kentucky, Louisiana, Michigan, Ohio, Oklahoma, Tennessee, Texas, Virginia and West Virginia.

Comment date: May 21, 2001, in accordance with Standard Paragraph E at the end of this notice.

16. Elwood Energy II, LLC, Elwood Energy III, LLC

[Docket No. ER01-1051-001 and Docket No. ER01-1055-001]

Take notice that on May 2, 2001, Elwood Energy II, LLC and Elwood Energy III, LLC tendered for filing revised market-based rate tariffs to include a prohibition on sales to an affiliated traditional utility absent a separate section 205 filing.

Comment date: May 23, 2001, in accordance with Standard Paragraph E at the end of this notice.

17. Arizona Independent Scheduling Administrator Association

[Docket No. ER00-3583-003]

Take notice that on May 2, 2001, the Arizona Independent Scheduling Administrator Association (Az ISA) tendered for filing with the Federal Energy Regulatory Commission (Commission) a compliance filing that revises certain portions of the Az ISA Tariff and provides information on start-up costs as required by the Commission's Order issued in this case on November 30, 2000.

Comment date: May 23, 2001, in accordance with Standard Paragraph E at the end of this notice.

18. Alliant Energy Corporate Services, Inc.

[Docket No. ER01-870-003]

Take notice that on May 2, 2001, Alliant Energy Corporate Services, Inc. (Alliant Energy Corporate Services) on behalf of IES Utilities Inc. (IES), Interstate Power Company (IPC) and Wisconsin Power and Light Company (WPL), tendered for filing in compliance with the Federal Energy Regulatory Commission's (Commission) Order dated April 13, 2001, in Docket Nos. ER01-870-001 and ER01-870-002, 95 FERC ¶ 61,064.

A copy of this filing has been served upon the Illinois Commerce Commission, the Minnesota Public Utilities Commission, the Iowa Department of Commerce, the Public Service Commission of Wisconsin, and all parties listed on the service list as compiled by the Secretary in this proceeding.

Comment date: May 23, 2001, in accordance with Standard Paragraph E at the end of this notice.

19. Central Maine Power Company

[Docket No. ER01-1741-001]

Take notice that on May 2, 2001, Central Maine Power Company (CMP), tendered for filing as an initial rate schedule pursuant to Section 35.12 of the Federal Energy Regulatory Commission's (the Commission) regulations, 18 C.F.R. § 35.12, (i) an unexecuted Form of Service Agreement for Non-Firm Local Point-to-Point Transmission Service between CMP and S.D. Warren Company (S.D. Warren), and (ii) an unexecuted Form of Service Agreement for Non-Firm Local Point-to-Point Transmission Service between CMP and Engage Energy America LLC (Engage), designated as Original Service Agreements 123 and 124, respectively, to CMP's FERC Electric Tariff, Fifth Revised Volume No. 3.

CMP is requesting that these unexecuted transmission service agreements become effective March 30, 2001.

Copies of this filing have been served upon the Commission, the Maine Public Utilities Commission, S.D. Warren, and Engage.

Comment date: May 23, 2001, in accordance with Standard Paragraph E at the end of this notice.

20. Callaway Golf Company

[Docket No. ER01-1701-001]

Take notice that on May 2, 2001, Callaway Golf Company (Callaway) petitioned the Commission for acceptance of Callaway Rate Schedule FERC No. 1; the granting of certain blanket approvals, including the authority to sell electricity at market-based rates; and the waiver of certain Commission regulations.

Callaway intends to engage in wholesale electric power and energy purchases and sales as a marketer. Callaway is not in the business of generating or transmitting electric power. Callaway and its subsidiaries and affiliates are in the business of designing, manufacturing, marketing, distributing and selling golf equipment.

Callaway requests that the Callaway Rate Schedule FERC No. 1 be made effective April 26, 2001, as originally requested.

Comment date: May 17, 2001, in accordance with Standard Paragraph E at the end of this notice.

21. Warren Power, LLC

[Docket No. EG01-202-000]

Take notice that on May 3, 2001, Warren Power, LLC, Parkwood Two Building, Suite 150, 10055 Grogan's Mill Road, the Woodlands, Texas, 77380, filed with the Federal Energy Regulatory Commission (Commission) an application for determination of exempt wholesale generator status pursuant to Section 329(a)(1) of the Public Utility Holding Company Act of 1935, as amended. The applicant is a limited liability company that will be engaged directly or indirectly and exclusively in the business of developing and ultimately owning and/or operating a 340 megawatt gas-fired, simple cycle electric generating facility located in Vicksburg, Mississippi and selling electric energy at wholesale.

Comment date: May 29, 2001, in accordance with Standard Paragraph E at the end of this notice. The Commission will limit its consideration of comments to those that concern the adequacy or accuracy of the application.

22. Zion Energy LLC

[Docket No. EG01-203-000]

Take notice that on May 2, 2001, Zion Energy LLC (Zion) filed with the Federal Energy Regulatory Commission an application for determination of exempt wholesale generator status pursuant to Part 365 of the Commission's regulations.

Zion, a Delaware limited liability company, proposes to own and operate an 825 MW electric generating facility and sell the output at wholesale to electric utilities, an affiliated power marketer and other purchasers. The facility is a natural gas-fired, simple cycle generating facility, which is under development in Lake County, Illinois.

Comment date: May 29, 2001, in accordance with Standard Paragraph E at the end of this notice. The Commission will limit its consideration of comments to those that concern the adequacy or accuracy of the application.

23. Western Systems Coordinating Council, Southwest Regional Transmission Association, Western Regional Transmission Association

[Docket No. EL01-74-000]

Take notice that on May 3, 2001, Western Systems Coordinating Council WSCC), Southwest Regional Transmission Association (SWRTA) and Western Regional Transmission Association (WRTA), tendered for filing with the Federal Energy Regulatory Commission (Commission), a Petition For Declaratory Order or For An Order Approving The Transfer Of Certain WSCC, WRTA and SWRTA Functions To The Western Electricity Coordinating Council (Petition).

The Petition describes in detail the anticipated structure and function of the Western Electricity Coordinating Council (WECC), and the petitioners' plan for their merger into WECC. On the grounds that the merging regional organizations are not currently regulated by the Commission and the merger will not substantially alter existing functions performed by WSCC, WRTA and SWRTA, petitioners request an order approving the transfer of those functions to WECC.

Comment date: June 4, 2001, in accordance with Standard Paragraph E at the end of this notice.

24. California Independent System Operator Corporation

[Docket No. ER01-1953-000]

Take notice that on May 3, 2001, the California Independent System Operator Corporation, on May 3, 2001, tendered for filing a Participating Generator Agreement between the ISO and Point Arguello Pipeline Company for acceptance by the Commission.

The ISO states that this filing has been served on Point Arguello Pipeline Company and the California Public Utilities Commission.

The ISO is requesting the Participating Generator Agreement be made effective April 25, 2001.

Comment date: May 24, 2001, in accordance with Standard Paragraph E at the end of this notice.

25. Jersey Central Power & Light Company, Metropolitan Edison Company, Pennsylvania Electric Company

[Docket No. ER01-1958-000]

Take notice that on April 30, 2001, Jersey Central Power & Light Company, Metropolitan Edison Company and Pennsylvania Electric Company (individually doing business as GPU Energy), submitted for filing a Notice of Cancellation of the Service Agreement between GPU Energy and Woodruff Oil Company (d/b/a Woodruff Energy), FERC Electric Tariff, Original Volume No. 1, Service Agreement No. 79.

GPU Energy requests that cancellation be effective the 27th day of June 2001.

Comment date: May 21, 2001, in accordance with Standard Paragraph E at the end of this notice.

26. Jersey Central Power & Light Company, Metropolitan Edison Company, Pennsylvania Electric Company

[Docket No. ER01-1959-000]

Take notice that on April 30, 2001, Jersey Central Power & Light Company, Metropolitan Edison Company and Pennsylvania Electric Company (individually doing business as GPU Energy) submitted for filing a Notice of Cancellation of the Service Agreement between GPU Service Corporation and Eastex Power Marketing, Inc. (now El Paso Merchant Energy, L.P.), FERC Electric Tariff, Original Volume No. 1, Service Agreement No. 40.

GPU Energy requests that cancellation be effective the June 27, 2001.

Comment date: May 21, 2001, in accordance with Standard Paragraph E at the end of this notice.

27. ANP Bellingham Energy Company, LLC (Successor to ANP Bellingham Energy Company)

[Docket No. ER01-1967-000]

Take notice that on May 1, 2001, ANP Bellingham Energy Company, LLC tendered for filing a Notice of Succession to succeed to the market-based rate tariff of ANP Bellingham Energy Company, effective April 24, 2001.

Comment date: May 22, 2001, in accordance with Standard Paragraph E at the end of this notice.

28. ANP Blackstone Energy Company, LLC (Successor to ANP Blackstone Energy Company)

[Docket No. ER01-1968-000]

Take notice that on May 1, 2001, ANP Blackstone Energy Company, LLC tendered for filing a Notice of Succession to succeed to the market-based rate tariff of ANP Blackstone Energy Company, effective April 24, 2001.

Comment date: May 22, 2001, in accordance with Standard Paragraph E at the end of this notice.

29. Ameren Services Company

[Docket No. ER01-1969-000]

Take notice that on May 1, 2001, Ameren Services Company (ASC) tendered for filing an unexecuted Service Agreement for Network Integration Transmission Service and an unexecuted Network Operating Agreement between ASC and Wayne-White Counties Electric Cooperative, Inc. (Customer). ASC asserts that the purpose of the Agreement is to permit ASC to provide transmission service to customer pursuant to Ameren's Open Access Tariff.

ASC requests that the Network Service Agreement and Network Operating agreement, subject to refund, become effective April 1, 2001.

Comment date: May 22, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-11969 Filed 5-11-01; 8:45 am]

BILLING CODE 6717-01-P